ENVIRONMENTAL PROTECTION AGENCY

[EPA-HQ-OW-2003-0064, FRL-8547-9]

U.S. EPA's 2008 National Clean Water Act Recognition Awards: Availability of Application and Nomination Information

AGENCY: Environmental Protection Agency (EPA).

ACTION: Notice of availability.

SUMMARY: This announces the availability of application and nomination information for the U.S. EPA's 2008 Clean Water Act (CWA) Recognition Awards. The awards recognize municipalities and industries for outstanding and innovative technological achievements in wastewater treatment and pollution abatement programs. The awards are intended to educate the public about the contributions wastewater treatment facilities make to clean water; to encourage public support for municipal and industrial efforts in effective wastewater management, biosolids disposal and reuse, and wet weather pollution control; and to recognize communities that use innovative practices to meet CWA permitting requirements.

DATES: Nominations are due from EPA Regional offices to EPA headquarters no later than May 30, 2008.

FOR FURTHER INFORMATION CONTACT: Matthew Richardson, Office of Water, Office of Wastewater Management, Municipal Support Division (MC 4204M), Environmental Protection Agency, 1200 Pennsylvania Ave., NW., Washington DC 20460; telephone: (202) 564-2947; fax Number: (202) 501-2396; e-mail address: richardson.matthew@epa.gov. Also visit the Office of Wastewater Management's Web page at: http://www.epa.gov/owm.

SUPPLEMENTARY INFORMATION:

I. General Information

A. How Can I Get Copies of This Document and Other Related Information?

1. Docket. EPA has established a docket for this action under Docket ID No. EPA-HQ-OW-2003-0064, FRL—. Publicly available docket materials are available either electronically through http://www.regulations.gov or in hard copy at the National Clean Water Act Recognition Awards Docket in the EPA Docket Center, (EPA/DC) EPA West, Room 3334, 1301 Constitution Ave., NW., Washington, DC. The EPA Docket Center Public Reading Room is open from 8:30 a.m. to 4:30 p.m., Monday through Friday, excluding legal holidays. The telephone number for the Public Reading Room is (202) 566-1744, and the telephone number for the National Clean Water Act Recognition Awards Docket is (202) 564-2947.

2. Electronic Access of This Document. You may access this Federal Register document electronically through the EPA Internet under the Federal Register listings at http://www.epa.gov/fedrgstr/.

3. Electronic Access for Additional Information. You may obtain additional application and nomination information from the EPA Regional offices and our Web site at http://www.epa.gov/OWM/mtb/intnet.htm. If additional help is needed to obtain the documentation, see contact information above.

II. Applicant Information

To be considered for a CWA award, applicants are to submit applications to the local EPA Regional office, or the State or Tribal water pollution control agency. The State or Tribal water pollution control agency then submits their nominee recommendations to the local EPA Regional office. Only applications or nominations recommended by EPA Regions to EPA headquarters are considered for a national award. The CWA Recognition Awards are authorized by section 33 U.S.C. 1361(a) and (e); additional details of the CWA awards program are described in 40 CFR part 105. Programs and projects being nominated for any of the award categories must be in compliance with applicable water quality requirements and have a satisfactory record with respect to environmental quality. Municipalities and industries are recognized for their demonstrated creativity and technological and environmental achievements in five award categories as follows:

(1) Outstanding Operations and Maintenance practices at wastewater treatment facilities;

(2) Exemplary Biosolids Management projects, technology/innovation or development activities, research and public acceptance efforts;

(3) Pretreatment Program Excellence;

(4) Storm Water Management Program Excellence; and

(5) Outstanding Combined Sewer Overflow Control Programs.

Dated: March 20, 2008.
James A. Hanlon,
Director, Office of Wastewater Management.

[FR Doc. E8-6281 Filed 3-26-08; 8:45 am]

BILLING CODE 6560-50-P